DEPARTMENT OF JUSTICE

Immigration and Naturalization Service

8 CFR Part 286

[INS Order No. 2180A-01]

RIN 1115-AG47

Establishment of a $3 Immigration User Fee for Certain Commercial Vessel Passengers Previously Exempt

AGENCY: Immigration and Naturalization Service, Department of Justice.

ACTION: Proposed rule; reopening of comment period.

SUMMARY: On April 3, 2002, at 67 FR 15753, the Immigration and Naturalization Service (Service) published a proposed rule in the Federal Register proposing to require certain commercial vessel operators and/or their ticketing agents to charge a $3 user fee from every commercial vessel passenger whose journey originated in the U.S., Canada, Mexico, a territory or possession of the United States, or an adjacent island except those exempted under section 286(e) of the Immigration and Nationality Act (Act) or 8 CFR part 286. The original comment period for the proposed rule closed on May 3, 2002. To ensure that the public has ample opportunity to fully review and comment on the proposed rule, this document reopens the comment period to May 28, 2002.

DATES: Written comments must be submitted on or before May 28, 2002.

ADDRESSES: Please submit written comments to the Director, Regulations and Forms Services Division, Immigration and Naturalization Service, 425 I Street, NW., Room 4034, Washington, DC 20536. To ensure proper handling, please reference INS No. 2180A-01 on your correspondence. You may also submit comments to the Service electronically at insregs@usdoj.gov. When submitting comments electronically please include INS No. 2180A-01 in the subject box. Comments are available for public inspection at the above address by calling (202) 514-3048 to arrange for an appointment.

FOR FURTHER INFORMATION CONTACT: Georgia Mayers, Chief of Cash Management, Office of Finance, Immigration and Naturalization, 425 I Street, NW., Washington, DC 20536, 202-305-1200.

SUPPLEMENTARY INFORMATION: Where can the public view the April 3, 2002, proposed rule?

The April 3, 2002, proposed rule can be viewed on the Government Printing Office Web site at: http://frwebgate.access.gpo.gov/cgi-bin/getdoc.cgi?dbname=2002—register&docid=02-8011-filed

Dated: May 9, 2002.
James W. Ziglar,
Commissioner, Immigration, and Naturalization Service.

[FR Doc. 02-12045 Filed 5-9-02; 3:51 pm]

BILLING CODE 4410-10-P